DEPARTMENT OF COMMERCE

International Trade Administration

[A-570-937]

Citric Acid and Certain Citrate Salts From the People's Republic of China: Final Results of Antidumping Duty Administrative Review; 2010-2011

AGENCY: Import Administration, International Trade Administration, Department of Commerce.

SUMMARY: The Department of Commerce (“Department”) published its Preliminary Results of administrative review of the antidumping duty order on citric acid and certain citrate salts from the People's Republic of China (“PRC”) on June 6, 2012.¹ The period of review (“POR”) is May 1, 2010, through April 30, 2011. Further, the Department released the results of its Post-Preliminary analysis on October 23, 2012,² in which we determined that the antidumping margin calculation methodology shall remain unchanged from the Preliminary Results. We gave interested parties an opportunity to comment on the Preliminary Results and Post-Preliminary Results. Based on our analysis of the comments received, the final results do not differ from the Preliminary Results. The final dumping margin for this review is listed in the “Final Results of Review” section below.

¹ See Preliminary Results of the Second Administrative Review of the Antidumping Duty Order; and Partial Rescission of Administrative Review, 77 FR 33399 (June 6, 2012) (“Preliminary Results”).

² See Memorandum from Abdelali Elouaradia to Paul Piquado, regarding “Second Antidumping Administrative Review of Citric Acid and Certain Citrate Salts from the People's Republic of China: Post-Preliminary Analysis Memo,” dated October 22, 2012 (“Post-Preliminary Results”).

DATES: Effective Date: December 13, 2012.

FOR FURTHER INFORMATION CONTACT: Krisha Hill or Robert Bolling, AD/CVD Operations, Office 4, Import Administration, International Trade Administration, U.S. Department of Commerce, 14th Street and Constitution Avenue NW., Washington, DC 20230; telephone: (202) 482-4037 or (202) 482-3434, respectively.

Background

On June 6, 2012, the Department published its Preliminary Results. On July 6, 2012, RZBC Co., Ltd., RZBC Imp. & Exp. Co., Ltd., RZBC (Juxian) Co., Ltd. (collectively “RZBC”) submitted a case brief for this administrative review.³ On July 11, 2012, the Department received a rebuttal brief from Archer Daniels Midland Company, Cargill, Incorporated, and Tate & Lyle Ingredients Americas LLC (“Petitioners”).⁴ No other party submitted comments.

³ See Letter from RZBC to the Department, regarding “Citric Acid and Citrate Salt from the People's Republic of China: Case Brief,” dated July 6, 2012. The Department also considered RZBC's pre-preliminary comments for the final results. See Letter from RZBC to the Department, regarding “Citric Acid and Citrate Salt from People's Republic of China: Pre-preliminary Results Comments,” dated May 8, 2012.

⁴ See Letter from Petitioners to the Department, regarding “Citric Acid and Certain Citrate Salts From The People's Republic of China: Rebuttal Brief,” dated July 11, 2012.

We have conducted this administrative review in accordance with section 751 of the Tariff Act of 1930, as amended (“the Act”), 19 CFR 351.213, and 19 CFR 351.221.

Scope of the Order

The scope of the order includes the hydrous and anhydrous forms of citric acid, the dihydrate and anhydrous forms of sodium citrate, otherwise known as citric acid sodium salt, and the monohydrate and monopotassium forms of potassium citrate.⁵ Sodium citrate also includes both trisodium citrate and monosodium citrate, which are also known as citric acid trisodium salt and citric acid monosodium salt, respectively. Citric acid and sodium citrate are classifiable under 2918.14.0000 and 2918.15.1000 of the Harmonized Tariff Schedule of the United States (“HTSUS”), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, the written description of the merchandise is dispositive.⁶

⁵ See Issues and Decision Memorandum issued concurrently with this notice for a complete description of the Scope of the Order.

⁶ See Citric Acid and Certain Citrate Salts from Canada and the People's Republic of China: Antidumping Duty Orders, 74 FR 25703 (May 29, 2009).

Analysis of Comments Received

All issues raised in the case and rebuttal briefs and additional comments received by parties in this review are addressed in the memorandum from Christian Marsh, Deputy Assistant Secretary for Antidumping and Countervailing Duty Operations, to Ronald K. Lorentzen, Acting Assistant Secretary for Import Administration, “Issues and Decision Memorandum for the Second Administrative Review of Citric Acid and Certain Citrate Salts from the People's Republic of China” (dated concurrently with this notice) (“Issues and Decision Memorandum”), which is hereby adopted by this notice. A list of the issues that parties raised and to which we responded in the Issues and Decision Memorandum is attached to this notice as an appendix. The Issues and Decision Memorandum is a public document and is on file electronically via Import Administration's Antidumping and Countervailing Duty Centralized Electronic Service System (“IA ACCESS”). Access to IA ACCESS is available to registered users at http://iaaccess.trade.gov and in the CRU, room 7046 of the main Department of Commerce building. In addition, a complete version of the Issues and Decision Memorandum can be accessed directly on the Internet at http://www.trade.gov/ia/. The signed Issues and Decision Memorandum and the electronic versions of the Issues and Decision Memorandum are identical in content.

Changes Since the Preliminary Results

Based on an analysis of the comments received, the Department has not made any changes in the margin calculation since the Preliminary Results.

Final Results of Review

We determine that the dumping margins for the POR are as follows:

Exporter | Weighted-average margin (percent)
RZBC Co., Ltd./RZBC Imp. & Exp. Co., Ltd./RZBC (Juxian) Co., Ltd | 0.00

Assessment

Pursuant to section 751(a)(2)(A) of the Act and 19 CFR 351.212(b), the Department will determine, and U.S. Customs and Border Protection (“CBP”) shall assess, antidumping duties on all appropriate entries of subject merchandise in accordance with the final results of this review. The Department intends to issue assessment instructions to CBP 15 days after the publication date of the final results of this review. For any individually examined respondents whose weighted-average dumping margin is zero or de minimis, or an importer- (or customer) specific assessment rate is de minimis under 19 CFR 351.106(c) (i.e., less than 0.50 percent), the Department will instruct CBP to liquidate the appropriate entries without regard to antidumping duties.⁷

⁷ In these final results, the Department applied the assessment rate calculation method adopted in Antidumping Proceedings: Calculation of the Weighted-Average Dumping Margin and Assessment Rate in Certain Antidumping Proceedings: Final Modification, 77 FR 8101 (February 14, 2012).

Cash Deposit Requirements

The following cash deposit requirements will be effective upon publication of the final results of this administrative review for all shipments of the subject merchandise from the PRC entered, or withdrawn from warehouse, for consumption on or after the publication date, as provided for by section 751(a)(2)(C) of the Act: (1) For RZBC, because the rate is zero, no cash deposit will be required; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate established in the final determination of the less than fair value investigation (i.e., 156.87 percent); and (4) for all non-PRC exporters of subject merchandise which have not received their own rate, the cash deposit rate will be the rate applicable to the PRC exporters that supplied that non-PRC exporter. These deposit requirements, when imposed, shall remain in effect until further notice.

Notification to Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of the final results of these reviews is issued and published in accordance with sections 751(a)(1) and 777(i) of the Act.

Dated: December 4, 2012.
Paul Piquado,
Assistant Secretary for Import Administration.

Appendix—List of Comments and Issues in the Issues and Decision Memorandum

Comment 1: Whether the Department Should Exclude Water from the Margin Calculation

Comment 2: Surrogate Value for Water

[FR Doc. 2012-29977 Filed 12-12-12; 8:45 am]

BILLING CODE 3510-DS-P